NATIONAL CREDIT UNION ADMINISTRATION

12 CFR Part 704

RIN 3133-AF13

Corporate Credit Unions; Extension of Comment Period

Correction

In proposed rule document 2020-07159 on page 19908 in the issue of Thursday, April 9, 2020, make the following correction:

On page 19908, in the first column, in the “DATES” section, in the fifth line, “June 8, 2020” should read “July 27, 2020”.

[FR Doc. C1-2020-07159 Filed 4-10-20; 8:45 am]

BILLING CODE 1301-00-D